DEPARTMENT OF TRANSPORTATION

Federal Transit Administration

Environmental Impact Statement on the Urban Ring Project Phase II, Located in Boston, Chelsea, Everett, Somerville, Cambridge and Brookline, Massachusetts

AGENCY: Federal Transit Administration (FTA), DOT.

ACTION: Notice of intent to prepare an Environmental Impact Statement (EIS).

SUMMARY: The Federal Transit Administration (FTA) and the Massachusetts Bay Transportation Authority (MBTA) intend to prepare an Environmental Impact Statement (EIS) for Phase II of the Urban Ring Project located in Boston and adjacent communities. The EIS will be undertaken in accordance with the National Environmental Policy Act (NEPA). The MBTA will ensure that the EIS also satisfies the requirements of the Massachusetts Environmental Policy Act (MEPA).

The EIS will evaluate the following alternatives: a No-Build alternative; Transportation System Management alternative defined as low cost, operationally oriented improvements to address the transportation problems in the corridor; and a Bus Rapid Transit (BRT) system along existing roadway rights-of-way and other rights-of-way owned by the MBTA and local jurisdictions. Scoping will be accomplished through meetings and correspondence with interested persons, organizations, the general public, Federal, State and local agencies.

DATES: Comment Due Date: Written comments on the scope of alternatives and impacts to be considered should be sent to the MBTA by October 30, 2001. See ADDRESSES below. Scoping Meeting: A joint FTA and MBTA public scoping meeting will be held on Wednesday, October 3, 2001, from 4 p.m. to 7 p.m., Massachusetts Transportation Building, 10 Park Plaza, Second Floor, Conference Rooms 2 and 3, Boston, MA 02116. People with special needs should contact Claire Barrett by calling (617) 492-4996 for information and arrangements. The building is accessible to people with disabilities. It is located near MBTA Bus Routes #43 and #55, the Boylston Station stop on the Green Line, and the New England Medical Center stop on the Orange Line. Copies of the Expanded Environmental Notification Form (ENF), including the Executive Summary of the Major Investment Study (MIS) will be available at the meeting. A presentation of the project will be made and comments solicited. See ADDRESSES below.

ADDRESSES: Written comments on the scope of the analysis and impacts to be considered should be sent to Mr. Peter C. Calcaterra, Project Manager, Massachusetts Bay Transportation Authority, 10 Park Plaza, Room 5750, Boston, MA 02116. A scoping meeting will be held at the following location: Massachusetts Transportation Building, Conference Rooms 2 and 3, 10 Park Plaza, Boston, Massachusetts.

See DATES above.

FOR FURTHER INFORMATION CONTACT: Mr. Richard H. Doyle, Regional Administrator, Federal Transit Administration Region 1, 55 Broadway, Cambridge, MA 02142, Telephone: (617) 494-2055.

SUPPLEMENTARY INFORMATION:

I. Scoping

The FTA and the MBTA invite interested individuals, organizations and federal, state, and local agencies to participate in: defining the options to be evaluated in the EIS for Phase 2 of the Urban Ring Project; identifying the social, economic and environmental impacts to be evaluated; and suggesting alternative options that are less costly or have fewer environmental impacts while achieving similar transportation objectives. An Expanded Environmental Notification Form (ENF) dated July 26, 2001 prepared in accordance with the provisions of the Massachusetts Environmental Policy Act 301 CMR 11.00 is being circulated to all Federal, state, and local agencies having jurisdiction in the Project. Other interested parties may request this document by contacting Fran Dowling at (978) 371-4221 or by email to fdowling@earthtech.com

II. Description of the Study Area and Transportation Needs

The Urban Ring Project is an initiative of the MBTA to improve the regional transportation system in Greater Boston. The roughly circular Urban Ring Corridor (hereafter known as the Corridor) includes portions of Chelsea, Everett, Somerville, Cambridge, Brookline and Boston. Approximately 15 miles long and one mile wide, the Corridor is growing faster than the regional average and will contain over 314,000 residents and over 360,000 jobs by the year 2025.

The Corridor has been the subject of many past transportation studies that have focused on several critical transportation needs. These studies, which span nearly 40 years, have identified solutions ranging from a highway to a new circumferential rail transit line and new bus routes augmented by low-cost traffic engineering improvements.

Every MBTA commuter rail, heavy and light rail transit line, the Silver Line (currently under construction) as well as over half of all MBTA bus routes, currently cross the Corridor, yet directness of transit travel along the Corridor today remains poor. Transit trips to and from the Corridor require twice as many transfers as the average for the metropolitan region, and transit trips travel at an average speed of less than 8 miles per hour compared to a regional average of over 15 miles per hour. This poor performance is largely due to the indirect routing that transit travelers must currently use for cross-town trips, compounded by inadequate connections with the radial transit and commuter rail system.

To date, improvements have been limited and no comprehensive program to address these mobility problems has been implemented. As summarized below, the project is planned to connect the existing radial transit lines with a multi-modal circumferential transit system to facilitate travel and help to relieve existing congestion, and to help reduce trip times and frustration for travelers.

III. Alternatives

To address these needs, the MIS developed alternatives ranging from low-cost conventional buses to Bus Rapid Transit (BRT), light and heavy rail systems and various combinations of each. Each alternative was evaluated to identify benefits, costs and potential environmental issues. A community-based planning process was used throughout the study, including extensive participation from citizen, business and environmental groups, and municipalities, as well as representatives from many of the areas largest educational and medical institutions. The extensive public involvement program included workshops, outreach briefings and general public meetings with a working committee and its subcommittees, providing input and guidance throughout the process.

Though this public process, the range of alternatives was steadily reduced from fifteen down to three. All three alternatives consist of Transportation System Management (TSM) measures, BRT service, supporting elements such as new commuter rail stops at Urban Ring interfaces, and rail service. They differ in the type of rail service. Alternatives A1 and B include Light Rail while Alternative A2 utilizes Heavy Rail. A multi-phase implementation concept and schedule was developed where each phase builds upon the previous one until all the components of the alternatives are in place.

Phase I: TSM

Phase II: TSM + BRT and supporting elements

Phase III: TSM + BRT and supporting elements + Rail Transit

The phased approach enables tangible service improvements to occur sooner and enables the level of investment and service to increase with demand and available levels of funding. In Phase I, Transportation System Management (TSM or Bus Optimization) elements not requiring major new construction are proposed. In Phase III, the rail technology and alignment will be determined during a subsequent environmental process. The subject of this EIS, and the focus of the scheduled scoping session, will be the BRT and supporting commuter rail connections proposed in Phase II of the Project.

For Phase II of the Urban Ring Project three alternatives were examined during the MIS. These alternatives will be examined in greater detail during the EIS as follows:

No-Build Alternative: Consists of the transportation network contained in the Regional Transportation Plan for the year 2010 in the absence of any other transportation improvements in the study corridor; TSM Alternative: Consists of continued operation of the proposed Phase I TSM bus routes within the 2010 network with no other transportation improvements in the study corridor; and BRT Alternative: Consists of the seven proposed BRT routes plus the supporting elements and continued operation of the non-redundant Phase I bus routes. A more detailed description of the BRT Alternative follows.

For Phase II, a fleet of low emission, low-floor, 60-foot articulated BRT vehicles would be purchased and additional BRT vehicle maintenance facility capacity provided. The Phase II BRT routes and vehicle maintenance facilities are planned for implementation in coordination with the MBTA Silver Line service and facilities that will be operational at that time. The TSM bus routes from Phase I would continue where not redundant to the BRT service. The BRT routes would operate at frequencies comparable to existing transit lines. During Phase II the environmental filings would be made to select the subsequent rail system to be added in Phase III.

Phase II would include segments of exclusive busway, Intelligent Transportation Systems features, and supporting elements to improve connections with radial transit and commuter rail lines. Some of the BRT routes in Phase II would be new, and other are modified or converted versions of the Phase I bus routes. A total of seven BRT routes are proposed in Phase II.

Supporting Elements: New or Expanded Commuter Retail Stations

Downtown Chelsea: Expand and improve existing station on Newburyport/Rockport Line.

Sullivan Square: New station stop near junction of Newburyport/Rockport and Haverhill Lines.

Gilman Square: New station stop on the Lowell Line.

Union Square: New station stop on the Fitchburg Line.

Yawkey: Expand and improve existing station on the Framingham/Worcester Line.

Ruggles: Expanded stop with platforms on both sides of Northeast Corridor.

Uphams Corner: Improved stop on the Fairmont Line.

IV. Probable Effects

The MBTA will consider probable effects and potentially significant impacts to social, economic and environmental factors associated with the Phase II alternatives under evaluation in the EIS. Potential environmental issues to be addressed will include: land use, historic and archeological resources, traffic and parking, noise and vibration, environmental justice, regulatory floodway/floodplain encroachments, coordination with transportation and economic development projects, and construction impacts. Other issues to be addressed in the EIS include: natural areas, ecosystems, rare and endangered species, water resources, air/surface water and groundwater quality, energy, potentially contaminated sites, displacements and relocations, and parklands. The potential impacts will be evaluated for both the construction period and long operations period of each alternative considered. In addition, the cumulative effects of the proposed project alternatives will be identified. Measures to avoid or mitigate adverse impacts will be developed.

V. FTA Procedures

A Draft EIS will be prepared to document the evaluation of the social, economic and environmental impacts of the alternatives. Upon completion, the Draft EIS will be available for public and agency review and comment. A public hearing on the Draft EIS will be held within the study area. On the basis of the Draft EIS and the public and agency comments received, a locally preferred alternative will be selected and described in full detail in the Final EIS.

Issued: September 13, 2001.
Richard H. Doyle,
Regional Administrator.

[FR Doc. 01-23255 Filed 9-17-01; 8:45 am]

BILLING CODE 4910-57-M